DEPARTMENT OF COMMERCE

International Trade Administration

[A-489-805]

Certain Pasta From Turkey: Extension of Time Limit for Preliminary Results of New Shipper Review

AGENCY: Import Administration, International Trade Administration, Department of Commerce.

EFFECTIVE DATE: August 8, 2000.

FOR FURTHER INFORMATION CONTACT: Cindy Robinson or Darla Brown, AD/CVD Enforcement, Office VI, Group II, Import Administration, International Trade Administration, U.S. Department of Commerce, 14th Street and Constitution Avenue, NW, Washington, DC 20230; telephone: (202) 482-3797 or (202) 482-2849, respectively.

Time Limits

Statutory Time Limits

Section 751(a)(2)(B)(iv) of the Tariff Act of 1930, as amended (the Act), requires the Department of Commerce (the Department) to make a preliminary determination within 180 days after the date on which the review is initiated and a final determination within 90 days after the date the preliminary determination is issued. However, if the Department concludes that the case is extraordinarily complicated such that it cannot complete the review within these time periods, section 751(a)(2)(B)(iv) of the Act allows the Department to extend the time limit for the preliminary determination to a maximum of 300 days and 150 days for the final determination from the date of publication of the preliminary determination.

Background

On February 23, 2000, the Department published a notice of initiation of new shipper review of the antidumping duty order on certain pasta from Turkey, covering the period July 1, 1999, through December 31, 1999 (65 FR 8949). The preliminary results are currently due no later than August 9, 2000.

Extension of Time Limit for Preliminary Results of Review

We determine that this case is extraordinarily complicated. Consequently, we are not able to complete the preliminary results of this review within the time limit. Therefore the Department is extending the time limit for completion of the preliminary results for the full 120 days, until no later than December 7, 2000. See Decision Memorandum from Melissa Skinner to Holly Kuga, dated July 24, 2000, which is on file in the Central Records Unit, Room B-099 of the main Commerce building. We intend to issue the final results no later than 90 days after the publication of the preliminary results notice.

This extension is in accordance with section 751(a)(2)(B)(iv) of the Act.

Dated: July 28, 2000.
Holly A. Kuga,
Acting Deputy Assistant Secretary, Import Administration, Group II.

[FR Doc. 00-20030 Filed 8-7-00; 8:45 am]

BILLING CODE 3510-DS-P